INTERNATIONAL TRADE COMMISSION

[Investigation Nos. 701-TA-513 and 731-TA-1249 (Final)]

Sugar From Mexico; Cancellation of Hearing

AGENCY: United States International Trade Commission.

ACTION: Notice.

DATES: Effective Date: February 9, 2015.

FOR FURTHER INFORMATION CONTACT: Amy Sherman (202-205-3289), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On November 3, 2014, the Commission established a schedule for the conduct of the final phase of the subject investigations (79 FR 75591, December 18, 2014). The hearing scheduled for Tuesday, March 17, 2015 in the referenced investigations is cancelled. Should there be a need to reschedule the hearing, the Commission will provide notice of the new date and time for the hearing.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Dated: February 10, 2015.
Lisa R. Barton,
Secretary to the Commission.

[FR Doc. 2015-03104 Filed 2-13-15; 8:45 am]

BILLING CODE 7020-02-P